DEPARTMENT OF ENERGY

Federal Energy Regulatory Commission

[Docket No. RP01-439-001]

Eastern Shore Natural Gas Company; Notice of Compliance Filing

July 27, 2001.

Take notice that on July 13, 2001, Eastern Shore Natural Gas Company (Eastern Shore) tendered for filing its response to the Commission's June 27, 2001 order¹ seeking additional information to support Eastern Shore's fuel retention percentages filed in Docket No. RP01-439-000.

¹ 95 FERC ¶61,446 (2001).

Any person desiring to protest said filing should file a protest with the Federal Energy Regulatory Commission, 888 First Street, NE., Washington, DC 20426, in accordance with Section 385.211 of the Commission's Rules and Regulations. All such protests must be filed on or before August 2, 2001. Protests will be considered by the Commission in determining the appropriate action to be taken, but will not serve to make protestants parties to the proceedings. Copies of this filing are on file with the Commission and are available for public inspection. This filing may be viewed on the Commission's web site at http://www.ferc.gov using the “RIMS” link, select “Docket #” and follow the instructions (please call (202) 208-2222 for assistance). Comments, protests and interventions may be filed electronically via the Internet in lieu of paper. See, 18 CFR 385.2001(a)(1)(iii) and the instructions on the Commission's web site under the “e-Filing” link.

David P. Boergers,
Secretary.

[FR Doc. 01-19276 Filed 8-1-01; 8:45 am]

BILLING CODE 6717-01-P